SMALL BUSINESS ADMINISTRATION

[Declaration of Disaster #3290]

State of Montana

As a result of the President's major disaster declaration on August 30, 2000, I find that the following Counties and Indian Reservations in the State of Montana constitute a disaster area due to damages caused by wildfires beginning on July 13, 2000 and continuing: Beaverhead, Broadwater, Carbon, Cascade, Deer Lodge, Flathead, Gallatin, Glacier, Granite, Jefferson, Judith Basin, Lake, Lewis and Clark, Lincoln, Madison, Meagher, Mineral, Missoula, Park, Pondera, Powell, Ravalli, Sanders, Silver Bow, Stillwater, Sweet Grass, Teton, and Wheatland Counties, and the Flathead and Blackfeet Indian Reservations. Applications for loans for physical damage as a result of this disaster may be filed until the close of business on October 29, 2000, and for loans for economic injury until the close of business on May 30, 2001 at the address listed below or other locally announced locations:

U.S. Small Business Administration, Disaster Area 3 Office, 4400 Amon Carter Blvd., Suite 102, Fort Worth, TX 76155

In addition, applications for economic injury loans from small businesses located in the following contiguous counties may be filed until the specified date at the above location: Big Horn, Chouteau, Fergus, Golden Valley, Liberty, Toole, and Yellowstone Counties in Montana; Bonner, Boundary, and Fremont Counties in Idaho; and Big Horn, Park and Teton Counties in Wyoming. Any Idaho counties contiguous to the above-named primary counties and not listed herein have been declared under a separate declaration for that State.

The interest rates are:

For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The number assigned to this disaster for physical damage is 329005.

For economic injury the numbers are 9I4800 for Montana, 9I4900 for Idaho, and 9I5000 for Wyoming.

(Catalog of Federal Domestic Assistance Program Nos. 59002 and 59008)
Dated: September 5, 2000.
Herbert L. Mitchell,
Acting Associate Administrator for Disaster Assistance.

[FR Doc. 00-23761 Filed 9-14-00; 8:45 am]

BILLING CODE 8025-01-P